COMMODITY FUTURES TRADING COMMISSION

Public Information Collection requirement Submitted to Office of Management and Budget (OMB) for Review

AGENCY: Commodity Futures Trading Commission.

ACTION: Notice of Submission of Information Collection #3038-0017, Market Surveys.

SUMMARY: The Commodity Futures Trading commission has submitted information collection 3038-0017, Market Surveys, to OMB for review and clearance under the Paperwork Reduction Act of 1995 (Pub. L. 104-13). The information collected pursuant to these rules is in the public interest and is necessary for market surveillance.

DATES: Comments must be received on or before November 9, 2006.

ADDRESSES: Persons wishing to comment on this information collection should contact Gary J. Martinaitis, Division of Market Oversight, U.S. Commodity Futures Trading commission, 1155 21st Street, NW., Washington, DC 20581; (202) 418; Fax (202) 418-5527; e-mail: gmartinaitis@cftc.gov.

Title: market Surveys.

Control Number: 3038-0017.

Action: Extension.

Respondents: businesses (excluding small businesses).

Estimated Annual Burden: 700 total hours.

Respondents | Businesses
Regulation (17 CFR) | 21.02
Estimated Number of respondents | 400
Reports annually be each respondents | 1
Total annual responses | 400
Estimated number of hours per response | 1.75

Dated: Issued in Washington, DC, on October 3, 2006.
Eileen A. Donovan,
Acting Secretary to the Commission.

[FR Doc. 06-8542 Filed 10-6-06; 8:45 am]

BILLING CODE 6351-01-M